COMMITTEE FOR THE IMPLEMENTATION OF TEXTILE AGREEMENTS

Determination under the African Growth and Opportunity Act

December 22, 2006.

AGENCY: Committee for the Implementation of Textile Agreements (CITA).

ACTION: Directive to the Commissioner of Customs and Border Protection.

SUMMARY: The Committee for the Implementation of Textile Agreements (CITA) has determined that certain textile and apparel goods from Mali shall be treated as “handloomed, handmade, folklore articles, or ethnic printed fabrics” and qualify for preferential treatment under the African Growth and Opportunity Act. Imports of eligible products from Mali with an appropriate visa will qualify for duty-free treatment.

EFFECTIVE DATE: January 16, 2007.

FOR FURTHER INFORMATION CONTACT: Anna Flaaten, International Trade Specialist, Office of Textiles and Apparel, U.S. Department of Commerce, (202) 482-3400.

SUPPLEMENTARY INFORMATION:

Authority: Sections 112(a) and 112(b)(6) of the African Growth and Opportunity Act (Title I of the Trade and Development Act of 2000, Pub. L. No. 106-200) (“AGOA”), as amended by Section 7(c) of the AGOA Acceleration Act of 2004 (Pub. L. 108-274) (“AGOA Acceleration Act”) (19 U.S.C. §§ 3721(a) and (b)(6)); Sections 2 and 5 of Executive Order No. 13191 of January 17, 2001; Sections 25-27 and Paras. 13-14 of Presidential Proclamation 7912 of June 29, 2005.

AGOA provides preferential tariff treatment for imports of certain textile and apparel products of beneficiary sub-Saharan African countries, including hand-loomed, handmade, or folklore articles of a beneficiary country that are certified as such by the competent authority in the beneficiary country. The AGOA Acceleration Act further expanded AGOA by adding ethnic printed fabrics to the list of textile and apparel products made in the beneficiary sub-Saharan African countries that may be eligible for the preferential treatment described in section 112(a) of the AGOA. In Executive Order 13191 (January 17, 2001) and Presidential Proclamation 7912 (June 29, 2005), the President authorized CITA to consult with beneficiary sub-Saharan African countries and to determine which, if any, particular textile and apparel goods shall be treated as being hand-loomed, handmade, folklore articles, or ethnic printed fabrics. (66 FR 7271-72 and 70 FR 37959, 37961 & 63)

In a letter to the Commissioner of Customs dated January 18, 2001, the United States Trade Representative directed Customs to require that importers provide an appropriate export visa from a beneficiary sub-Saharan African country to obtain preferential treatment under section 112(a) of the AGOA (66 FR 7837). The first digit of the visa number corresponds to one of nine groupings of textile and apparel products that are eligible for preferential tariff treatment. Grouping “9” is reserved for handmade, hand-loomed, folklore articles, or ethnic printed fabrics.

CITA has consulted with Malian authorities and has determined that hand-loomed fabrics, hand-loomed articles (e.g., hand-loomed rugs, scarves, place mats, and tablecloths), handmade articles made from hand-loomed fabrics, the folklore articles described in Annex A, and ethnic printed fabrics described in Annex B to this notice, if produced in and exported from Mali, are eligible for preferential tariff treatment under section 112(a) of the AGOA, as amended. After further consultations with Malian authorities, CITA may determine that additional textile and apparel goods shall be treated as folklore articles or ethnic printed fabrics. In the letter published below, CITA directs the Commissioner of Customs and Border Protection to allow duty-free entry of such products under U.S. Harmonized Tariff Schedule subheading 9819.11.27 if accompanied by an appropriate AGOA visa in grouping “9”.

Philip J. Martello,
Acting Chairman, Committee for the Implementation of Textile Agreements.

Committee for the Implementation of Textile Agreements

December 22, 2006.

Commissioner,

Bureau of Customs and Border Protection, Washington, DC 20229.

Dear Commissioner: The Committee for the Implementation of Textiles Agreements (“CITA”), pursuant to Sections 112(a) and (b)(6) of the African Growth and Opportunity Act (Title I of the Trade and Development Act of 2000, Pub. L. No. 106-200) (“AGOA”), as amended by Section 7(c) of the AGOA Acceleration Act of 2004 (Pub. L. 108-274) (“AGOA Acceleration Act”) (19 U.S.C. §§ 3721(a) and (b)(6)), Executive Order No. 13191 of January 17, 2001, and Presidential Proclamation 7912 of June 29, 2005, has determined, effective on January 16, 2007, that the following articles shall be treated as “handloomed, handmade, folklore articles, and ethnic printed fabrics” under the AGOA: (a) handloomed fabrics, handloomed articles (e.g., handloomed rugs, scarves, placemats, and tablecloths), and hand-made articles made from handloomed fabrics, if made in Mali from fabric handloomed in Mali; (b) the folklore articles described in Annex A; and (c) ethnic printed fabrics described in Annex B, if made in Mali. Such articles are eligible for duty-free treatment only if entered under subheading 9819.11.27 and accompanied by a properly completed visa for product grouping “9”, in accordance with the provisions of the Visa Arrangement between the Government of Mali and the Government of the United States Concerning Textile and Apparel Articles Claiming Preferential Tariff Treatment under Section 112 of the Trade and Development Act of 2000. After further consultations with Malian authorities, CITA may determine that additional textile and apparel goods shall be treated as folklore articles or ethnic printed fabrics.

Sincerely,

Philip J. Martello,

Acting Chairman, Committee for the Implementation of Textile Agreements.

ANNEX A: Malian Folklore Products

CITA has determined that the following textile and apparel goods shall be treated as folklore articles for purposes of the AGOA if made in Mali. Articles must be ornamented in characteristic Malian or regional folk style. An article may not include modern features such as zippers, elastic, elasticized fabrics, snaps, or hook-and-pile fasteners (such as velcroc or similar holding fabric). An article may not incorporate patterns that are not traditional or historical to Mali, such as airplanes, buses, cowboys, or cartoon characters and may not incorporate designs referencing holidays or festivals not common to traditional Malian culture, such as Halloween and Thanksgiving.

Eligible folklore articles:

(a) Hand-woven Blanket/Tapestry: Strips of handloomed cotton or wool or wool-cotton blend fabric, 3-10 inches wide, hand or machine sewn together to make a larger piece of fabric. Dimensions and designs depend on use. Uses include scarves, body wrap, blankets, bedspreads, and interior room decoration accessory. Designs are woven into the fabric using dyed yarns or painted, stenciled or printed after assembly.

(b) Women's Boubou: A loose-fitting garment with large open armholes made of bright solid colored machine-made African brocade (also called basin) or hand-woven fabric. It is accompanied by a matching wrap skirt and head wrap. The garment is decorated with hand or machine-sewn embroidery around a round or U-shaped neckline.

(c) Ladies' Long Traditional Boubou: This ladies' dress is a loose-fitting garment with matching scarf and head wrap of bright colored machine-made fabric characteristic of ethnic printed fabrics, or of hand-woven fabrics. Garment is decorated with lace attached around the neckline, bottom hem, and sleeves.

(d) Men's Boubou of Ethnic Printed Fabrics: This loose-fitting two-piece set is an ankle-length pullover outer tunic with matching trousers. The tunic has oversized armholes and an asymmetrical neckline with a center chest pocket. The garment is embroidered around the neckline. The trousers are secured at the waist by a drawstring and may be baggy with extra-fullness at the thighs and may contain side seam pockets.

(e) Men's Boubou of African Brocade (Basin) Fabric: This loose fitting three-piece set contains an ankle length pullover outer tunic, and inner tunic, and matching trousers. The outer tunic has oversized armholes and an asymmetrical neckline with a center chest pocket and is embroidered around the neckline. The inner tunic is embroidered around the neckline and may have pockets. The trousers are secured at the waist by a drawstring and are baggy with extra-fullness at the thighs and may contain pockets.

(f) Bologan Poncho: The “poncho” is loosely constructed made of several strips of narrow hand-woven fabrics hand or machine sewn together, with a slit for a neck opening. The garment is patterned with geometric-designed mud cloth.

(g) Dogon Hunter's Tunic: A loose-fitting upper garment made by hand or machine sewing several strips of narrow hand-woven fabrics together, it is decorated with metal staples forming geometric designs. The garment is dyed a solid dark blue or dark brown in color.

ANNEX B: Malian Ethnic Printed Fabrics

Each ethnic print must meet all of the criteria listed below:

(A) selvedge on both edges

(B) width of less than 50 inches

(C) classifiable under subheading 5208.52.30 ¹ or 5208.52.40² of the Harmonized Tariff Schedule of the United States

¹ printed plain weave fabrics of cotton, 85% or more cotton by weight, weighing over 100g/m2 but not more than 200 g/m2, of yarn number 42 or lower

² printed plain weave fabrics of cotton, 85% or more cotton by weight, weighing over 100g/m2 but not more than 200g/m2, of yarn numbers 43-68

(D) contains designs, symbols, and other characteristics of African prints normally produced for and sold in Africa by the piece.

(E) made from fabric woven in the U.S. using U.S. yarn or woven in one or more eligible sub-Saharan beneficiary countries using U.S or African yarn

(F) printed, including waxed, in one or more eligible sub-Saharan beneficiary countries

[FR Doc. E6-22328 Filed 12-28-06; 8:45 am]

BILLING CODE 3510-DS-S